FEDERAL COMMUNICATIONS COMMISSION

47 CFR Part 20

[CC Docket No. 94-102; DA 00-1091]

Wireless E911; New Implementation Deadline for TTY Access to Digital Wireless Systems for 911 Calls

AGENCY: Federal Communications Commission.

ACTION: Proposed rulemaking.

SUMMARY: The Commission, in this document, seeks comment on a proposed revised deadline for compliance with the Commission's rule requiring transmitting of text telephone (TTY) 911 calls on digital wireless systems. The Commission also seeks information on other aspects of the various TTY/digital wireless systems compatibility solutions, including consumer impacts, technical issues, etc. The temporary waivers of the rule previously granted by the Commission will remain in place pending the Commission's establishment of an implementation schedule based on the information received in response to this document. The action is needed to establish a strong, inclusive record on TTY issues that the Commission may use in making well-informed decisions in this critical enhanced 911 (E911) proceeding.

DATES: Submit comments on or before June 19, 2000; submit reply comments on or before July 19, 2000.

ADDRESSES: Send comments and reply comments to the Office of the Secretary, Federal Communications Commission, Washington, DC 20554.

FOR FURTHER INFORMATION CONTACT: Patrick Forster, 202-418-1310.

SUPPLEMENTARY INFORMATION: This is a summary of the Commission's Public Notice in CC Docket No. 94-102, DA 00-1091, released May 17, 2000. The complete text of the Public Notice is available on the Commission's Internet site, at www.fcc.gov. It is also available for inspection and copying during normal business hours in the FCC Reference Information Center, Courtyard Level, 445 12th Street, SW., Washington, DC, and may be purchased from the Commission's copy contractor, International Transcription Services, Inc., CY-B400, 445 12th Street SW., Washington, D.C. Comments may be sent as an electronic file via the Internet to http://www.fcc.gov/e-file/ecfs.html, or by e-mail to ecfs@fcc.gov.

Synopsis of the Public Notice

1. The Commission seeks comment on a proposed revised deadline for compliance with the Commission's rule requiring transmitting of text telephone (TTY) 911 calls on digital wireless systems, pursuant to 47 CFR 20.18(c). The Commission also seeks information on other aspects of the various TTY/digital wireless systems compatibility solutions, including consumer impacts, technical issues, etc. The temporary waivers of the rule previously granted by the Commission will remain in place pending the Commission's establishment of an implementation schedule based on the information received in response to this Public Notice.

2. The First Report and Order in this proceeding (61 FR 40348, August 2, 1996) required that, as of October 1, 1997, all covered wireless carriers be capable of transmitting 911 calls from individuals with speech or hearing disabilities through means other than mobile radio handsets, e.g., through the use of TTY devices. To date, however, carriers operating digital wireless systems have been unable to comply with this requirement because digital systems have been unable to accurately pass the Baudot-encoded audio tones produced by TTY devices. The Commission suspended enforcement of the TTY requirements until December 1998 and issued over 100 temporary waivers of the rule, which remain pending, while the industry worked on a solution. Recent technological developments now lead the Commission to request further comment regarding an implementation deadline for compliance with § 20.18(c).

3. The Commission first seeks comment on its tentative view that December 31, 2001, represents a reasonable deadline for implementation of a digital wireless TTY solution. The Commission proposes that all wireless carriers begin complying with § 20.18(c) on or before this date, and invites comment on whether this deadline would permit equipment manufacturers and carriers sufficient time to complete the tasks associated with implementing a system solution of this kind. Commenters are asked to identify the specific tasks they expect to be required to implement a TTY solution and to provide estimates of how long each task is expected to take.

4. In addition, the Commission seeks comment on a possible program for monitoring the progress of TTY compatibility. Specifically, the Commission invites comment on what type of monitoring program might be appropriate, whether additional regulation is needed to facilitate monitoring progress, and how the Commission might best monitor the progress of technological developments and the adoption of standards.

5. The Commission solicits comment regarding enforcement of compliance with § 20.18(c). The Commission seeks comment on the relationship of section 255(b) of the Communications Act of 1934 (which requires manufacturers to ensure the accessibility of equipment) and section 251(a)(2) of the Act (which requires that carriers not install network features, functions, or capabilities that do not comply with the guidelines and standards established pursuant to section 255) to implementation of § 20.18(c). The Commission also seeks comment on whether and how the Commission might use its equipment authorization process to enforce compliance with § 20.18(c).

6. The Commission further invites comment on the impact of TTY/digital wireless compatibility solutions on consumers. The Commission emphasizes that carriers are expected to make their digital wireless systems compatible with TTY devices without causing potential adverse impacts to consumers. Thus, the Commission invites comment on what negative impacts to consumers might result from TTY compatibility efforts, the extent and nature of costs and/or inconveniences to consumers, and, to the extent that any additional costs or inconveniences are identified, what steps carriers can take to eliminate or mitigate such adverse impacts, especially those that could affect safety of life.

7. The Commission also seeks comment on Ericsson's proposed solution for TTY/GSM compatibility, which will apparently involve a “smart cable” that itself operates to convert the Baudot tones to a new signal that is suited for transfer over a digital voice path without the need for software changes in the handset. The Commission requests comment on whether this type of solution for GSM, or any other similar cable, will be acceptable to TTY users, and whether this type of solution will impose additional costs and/or inconveniences on consumers.

8. Finally, the Commission seeks comment on the impact the international use of GSM air interface has on development and implementation of a TTY solution.

Procedural Matters

9. Pursuant to § 1.45 of the Commission's Rules, 47 CFR 1.45, interested parties may file comments on the proposed implementation deadline no later than June 19, 2000. Replies shall be filed no later than July 19, 2000. All comments shall reference the docket number of this proceeding. Comments may be filed using the Commission's Electronic Comment Filing System (ECFS) or by filing paper copies. Comments filed through the ECFS can be sent as an electronic file via the Internet to http://www.fcc.gov/e-file/ecfs.html. In completing the transmittal screen, commenters should include their full name, Postal Service mailing address, and the docket number of this proceeding. Parties filing electronically should also e-mail a copy of their comments to pforster@fcc.gov. Parties who choose to file by paper must file an original and four copies of each filing with the Commission's Secretary (Magalie Roman Salas, Office of the Secretary, Federal Communications Commission, 445 12th Street, SW., Washington, DC 20554) and a diskette copy to the Commission's copy contractor (International Transcription Service, Inc. (ITS), CY-B400, (202) 857-3800).

10. Pursuant to § 1.1206 of the Commission's Rules, 47 CFR 1.1206, this proceeding is a permit-but-disclose proceeding in which ex parte communications are permitted subject to disclosure.

11. Copies of this Public Notice in alternative formats (computer diskette, large print, audio-cassette, and Braille) are available to persons with disabilities by contacting Brian Millin at (202) 418-7426 voice, (202) 418-7365 TTY, or at bmillin@fcc.gov. The Public Notice also will be available at: http://www.fcc.gov/cib/dro/.

Federal Communications Commission.
Magalie Roman Salas,
Secretary.

[FR Doc. 00-13033 Filed 5-23-00; 8:45 am]

BILLING CODE 6712-01-P